DEPARTMENT OF COMMERCE

Bureau of the Census

[Docket Number 010209034-2252-08]

Urban Area Criteria for Census 2000; Correction

AGENCY: Bureau of the Census, Department of Commerce.

ACTION: Notice.

SUMMARY: On March 15, 2002 (67 FR 11663), the Bureau of the Census (Census Bureau) published a Federal Register Notice of Final Program Criteria announcing its criteria for defining urban and rural territory based on the results of Census 2000. The Census Bureau is correcting the final criteria as they apply to 1990 urbanized areas that did not qualify as part of a Census 2000 urbanized area.

EFFECTIVE DATE: November 20, 2002.

FOR FURTHER INFORMATION CONTACT: Robert W. Marx, Chief, Geography Division, U.S. Census Bureau, 4700 Silver Hill Road, Stop 7400, Washington, DC 20233-7400; telephone (301) 457-2131; e-mail at: ua@geo.census.gov.

SUPPLEMENTARY INFORMATION: On March 15, 2002 (67 FR 11663), the Census Bureau published a Federal Register Notice of Final Program Criteria announcing its criteria for defining urban and rural territory based on the results of Census 2000. The Census Bureau is correcting the final criteria as they apply to 1990 urbanized areas that did not qualify as part of a Census 2000 urbanized area. The corrections contained in this Notice are in addition to the corrections that were published in a Federal Register Notice on August 23, 2002 (67 FR 54631). These corrections do not affect the earlier correction Notice.

The Census Bureau is providing the following correction to the original Notice.

Page 11667, Column 1, Section I, Census 2000 Urbanized Area (UA) and Urban Cluster (UC) Definitions, the Census Bureau is adding a new paragraph, between the first and second paragraphs of this Section, to read as follows: “In addition, the Census Bureau will designate a Census 2000 UA when all the territory in a previously existing 1990 UA is not included in any other Census 2000 UA, contains two or more clusters of urban population that reside in more than half the territory of the previously existing UA, and the combined population of the clusters totals 50,000 or greater.”

Executive Order 12866

This Notice has been determined to be not significant for purposes of Executive Order 12866.

Administrative Procedure and Regulatory Flexibility Acts

Notice and comment are not required under the Administrative Procedure Act (5 U.S.C. 553), or any other law, for rules of agency organization, procedure or practice (5 U.S.C. 553(b)(A)). Because notice and comment are not required, a Regulatory Flexibility Analysis is not required and has not been prepared (5 U.S.C. 603(a)).

Paperwork Reduction Act

This program Notice does not represent a collection of information subject to the requirements of the Paperwork Reduction Act, Title 44,U.S.C., Chapter 35.

Dated: November 15, 2002.
Charles Louis Kincannon,
Director, Bureau of the Census.

[FR Doc. 02-29463 Filed 11-19-02; 8:45 am]

BILLING CODE 3510-07-P